DEPARTMENT OF HOMELAND SECURITY

Transportation Security Administration

Relocation and Temporary Closure of TSA's Docket Facility

AGENCY: Transportation Security Administration, DHS.

ACTION: Notice.

SUMMARY: The Transportation Security Administration's (TSA) official regulatory docket is maintained in electronic form at the U.S. Department of Transportation's (DOT) Docket Management System (DMS) docket facilities. This notice announces two service disruptions relating to the relocation of those facilities. The DOT Docket Operations facility, equipment, and staff is moving to 1200 New Jersey Avenue, SE., Washington, DC 20590, and will be located on the West Building Ground Floor, Room W12-140. Hours for the new facility will continue to be 9 a.m. to 5 p.m., Monday through Friday, excluding legal holidays. The Docket Operations telephone number will continue to be (202) 366-9826.

1. To prepare for the relocation to the new facility, the DOT Docket Operations office will be closed to the public on Friday, May 25, 2007, through Tuesday, May 29, 2007. The office will reopen to the public on Wednesday, May 30, 2007 at the new facility.

2. To move the computers that host the electronic dockets, the DMS will be unavailable for use from Wednesday, June 13, 2007, through Sunday, June 17, 2007. The electronic docket will be available to users on June 18, 2007.

FOR FURTHER INFORMATION CONTACT: DOT: Renee V. Wright, Program Manager, Docket Operations, Office of Information Services, Office of the Assistant Secretary for Administration, Office of the Secretary, 400 7th Street, SW., Washington, DC 20590 until May 24, 2007; and at M-30, West Building Ground Floor, Room W12-140, 1200 New Jersey Avenue, SE., after that; telephone number: 202-366-9826; e-mail address: renee.wright@dot.gov.

TSA: Marisa Mullen, Docket Liaison, Office of the Chief Counsel, TSA-2, 601 South 12th Street, Arlington, VA 22202-4220; telephone (571) 227-2706.

SUPPLEMENTARY INFORMATION:

Applicability

This notice applies to the Department of Homeland Security operating administrations of the Transportation Security Agency (TSA) and the United States Coast Guard (USCG), as well as all DOT operating administrations and the Office of Secretary (OST).

Accessing Docket Materials During the Office Closure

During the closure of the Dockets Operations Facility, May 25, 2007, through May 29, 2007, docket materials will remain available to the public through the DMS at http://dms.dot.gov, which is available 24 hours a day/7 days a week. The electronic dockets will continue to be available through June 12, 2007, and will be available to users again on June 18, 2007.

Submitting Public Docket Material During Disruptions

You may submit public docket material by one of the following methods:

1. During the office closure May 25, 2007, through May 29, 2007:

a. Electronically through the DMS at http://dms.dot.gov, which is available 24 hours a day/7 days a week. Follow the online instructions for submitting comments.

b. By mail that will be forwarded to the new building during this transition period through the U.S. Postal Service after Thursday, May 24, 2007, addressed to: U.S. Department of Transportation, Docket Operations, M-30, West Building Ground Floor, Room W12-140, 1200 New Jersey Ave SE., Washington, DC 20590.

2. When the DMS computer is down from June 13, 2007, through June 17, 2007:

a. By mail addressed to: U.S. Department of Transportation, Docket Operations, M-30, West Building Ground Floor, Room W12-140, 1200 New Jersey Ave SE., Washington, DC 20590.

b. By hand delivery to the same address.

Note, however, that office staff will not begin to place documents received during this period into the DMS electronic system until the computer goes back on line June 18, 2007.

Accepting Courier Deliveries

Docket Operations staff will continue to accept deliveries at 400 7th Street, SW., Room PL-401, Washington, DC, until 5 p.m., Thursday, May 24, 2007.

Beginning at 9 a.m. on Wednesday, May 30, 2007, Docket Operations staff will be available to accept deliveries at the new DOT facility on the West Building Ground Floor, Room W12-140, 1200 New Jersey Avenue, SE., Washington, DC 20590.

Processing Material With Deadlines or an Emergency Filing During Office Closure

The Docket Operations staff will still receive electronic submissions during the office move May 25, 2007, through May 29, 2007, but not during the period the computers are down from June 13, 2007, through June 17, 2007. These submissions, however, will not be immediately entered onto the Internet Web site. Hard copy submissions delivered to Docket Operations by May 30, 2007, will be treated as received in a timely manner, if they were due during the office's closure.

Generally, time periods/due dates for responsive filings for submissions due during the May office closure will be extended from May 30, 2007, and June 18, 2007, when DMS operations resume. These periods of closure and computer inaccessibility will be considered “holidays” for purposes of procedural rules.

Persons filing emergency applications or other such documents should contact TSA with specific questions about deadlines and extensions.

Issued in Arlington, Virginia, on May 22, 2007.
Mardi Ruth Thompson,
Deputy Chief Counsel (Regulations).

[FR Doc. E7-10242 Filed 5-25-07; 8:45 am]

BILLING CODE 9110-05-P